DEPARTMENT OF HEALTH AND HUMAN SERVICES

National Institutes of Health

National Institute of Child Health and Human Development; Amended Notice of Meeting

Notice is hereby given of a change in the meeting of the National Institute of Child Health and Human Development Special Emphasis Panel, February 20, 2008, 2 p.m. to February 20, 2008, 3 p.m., National Institutes of Health, 6100 Executive Boulevard, 5B01, Rockville, MD 20852 which was published in the Federal Register on January 28, 2008, 73 FR 4883-4884.

The meeting will be on February 21, 2008, 10 a.m. The meeting is closed to the public.

Dated: February 8, 2008.
Jennifer Spaeth,
Director, Office of Federal Advisory Committee Policy.

[FR Doc. 08-693 Filed 2-14-08; 8:45 am]

BILLING CODE 4140-01-M